DEPARTMENT OF ENERGY

Federal Energy Regulatory Commission

Combined Notice of Filings #1

Take notice that the Commission received the following exempt wholesale generator filings:

Docket Numbers: EG16-141-000.

Applicants: Luning Energy Holdings LLC.

Description: Notice of Self-Certification of Exempt Wholesale Generator Status of Luning Energy Holdings LLC.

Filed Date: 8/25/16.

Accession Number: 20160825-5050.

Comments Due: 5 p.m. ET 9/15/16.

Docket Numbers: EG16-142-000.

Applicants: Luning Energy LLC.

Description: Notice of Self-Certification of Exempt Wholesale Generator Status of Luning Energy LLC.

Filed Date: 8/25/16.

Accession Number: 20160825-5051.

Comments Due: 5 p.m. ET 9/15/16.

Take notice that the Commission received the following electric rate filings:

Docket Numbers: ER10-1818-012; ER10-1817-013; ER10-1819-014; ER10-1820-017.

Applicants: Public Service Company of Colorado, Southwestern Public Service Company, Northern States Power Company, a Minnesota corporation, Northern States Power Company, a Wisconsin corporation.

Description: Supplement to January 14, 2016 Triennial Market Power Analysis and Notice of Change in Status of Public Service Company of Colorado, et al.

Filed Date: 8/24/16.

Accession Number: 20160824-5268.

Comments Due: 5 p.m. ET 10/24/16.

Docket Numbers: ER15-2589-002.

Applicants: CPV Shore, LLC.

Description: Compliance filing: Compliance Filing of Reactive Power Service Rate Schedule to be effective 1/1/2016.

Filed Date: 8/25/16.

Accession Number: 20160825-5133.

Comments Due: 5 p.m. ET 9/15/16.

Docket Numbers: ER16-521-002.

Applicants: Midcontinent Independent System Operator, Inc.

Description: Compliance filing: 2016-08-25 Att Y align with PRA Compliance to be effective 2/12/2016.

Filed Date: 8/25/16.

Accession Number: 20160825-5136.

Comments Due: 5 p.m. ET 9/15/16.

Docket Numbers: ER16-2169-001.

Applicants: Algonquin SKIC 20 Solar, LLC.

Description: Tariff Amendment: Amendment to Application for Initial Tariff to be effective 7/14/2016.

Filed Date: 8/24/16.

Accession Number: 20160824-5225.

Comments Due: 5 p.m. ET 9/14/16.

Docket Numbers: ER16-2226-001.

Applicants: McHenry Battery Storage, LLC.

Description: Tariff Amendment: Supplement to McHenry Battery Storage Petition for Market-Based Rate Authority to be effective 7/19/2016.

Filed Date: 8/24/16.

Accession Number: 20160824-5226.

Comments Due: 5 p.m. ET 9/14/16.

Docket Numbers: ER16-2227-001.

Applicants: Kelly Creek Wind, LLC.

Description: Tariff Amendment: Kelly Creek Wind Supplement to Petition for Market-Based Rate Authority to be effective 9/17/2016.

Filed Date: 8/24/16.

Accession Number: 20160824-5228.

Comments Due: 5 p.m. ET 9/14/16.

Docket Numbers: ER16-2289-001.

Applicants: Golden Fields Solar I, LLC.

Description: Tariff Amendment: Supplement to App. for MBR Authorization in Response to Informal Staff Request to be effective 8/1/2016.

Filed Date: 8/25/16.

Accession Number: 20160825-5173.

Comments Due: 5 p.m. ET 9/15/16.

Docket Numbers: ER16-2477-000.

Applicants: AES Alamitos, LLC.

Description: § 205(d) Rate Filing: AES Alamitos Tariff Update Filing to be effective 8/26/2016.

Filed Date: 8/25/16.

Accession Number: 20160825-5137.

Comments Due: 5 p.m. ET 9/15/16.

Docket Numbers: ER16-2478-000.

Applicants: AES Energy Storage, LLC.

Description: § 205(d) Rate Filing: AES Energy Strg Tariff Updates Filing to be effective 8/26/2016.

Filed Date: 8/25/16.

Accession Number: 20160825-5138.

Comments Due: 5 p.m. ET 9/15/16.

Docket Numbers: ER16-2479-000.

Applicants: AES ES Tait, LLC.

Description: § 205(d) Rate Filing: AES ES Tait Tariff Update Filing to be effective 8/26/2016.

Filed Date: 8/25/16.

Accession Number: 20160825-5139.

Comments Due: 5 p.m. ET 9/15/16.

Docket Numbers: ER16-2480-000.

Applicants: AES Huntington Beach, L.L.C.

Description: § 205(d) Rate Filing: AES Huntington Bch Tariff Updates Filing to be effective 8/26/2016.

Filed Date: 8/25/16.

Accession Number: 20160825-5144.

Comments Due: 5 p.m. ET 9/15/16.

Docket Numbers: ER16-2481-000.

Applicants: AES Laurel Mountain, LLC.

Description: § 205(d) Rate Filing: AES Laurel Mtn Tariff Updates Filing to be effective 8/26/2016.

Filed Date: 8/25/16.

Accession Number: 20160825-5147.

Comments Due: 5 p.m. ET 9/15/16.

Docket Numbers: ER16-2482-000.

Applicants: AES Redondo Beach, L.L.C.

Description: § 205(d) Rate Filing: AES Redondo Bch Tariff Updates Filing to be effective 8/26/2016.

Filed Date: 8/25/16.

Accession Number: 20160825-5148.

Comments Due: 5 p.m. ET 9/15/16.

Docket Numbers: ER16-2483-000.

Applicants: Mountain View Power Partners, LLC.

Description: § 205(d) Rate Filing: Mountain View Tariff Updates Filing to be effective 8/26/2016.

Filed Date: 8/25/16.

Accession Number: 20160825-5149.

Comments Due: 5 p.m. ET 9/15/16.

Docket Numbers: ER16-2484-000.

Applicants: Mountain View Power Partners IV, LLC.

Description: § 205(d) Rate Filing: Mtn View IV Tariff Updates Filing to be effective 8/26/2016.

Filed Date: 8/25/16.

Accession Number: 20160825-5150.

Comments Due: 5 p.m. ET 9/15/16.

Docket Numbers: ER16-2485-000.

Applicants: California Independent System Operator Corporation.

Description: § 205(d) Rate Filing: 2016-08-25 DSHBAOA with APS to be effective 10/25/2016.

Filed Date: 8/25/16.

Accession Number: 20160825-5152.

Comments Due: 5 p.m. ET 9/15/16.

Docket Numbers: ER16-2486-000.

Applicants: Southwest Power Pool, Inc.

Description: § 205(d) Rate Filing: 2502R1 Osage Wind/OG&E Facilities Construction Agreement to be effective 8/8/2016.

Filed Date: 8/25/16.

Accession Number: 20160825-5153.

Comments Due: 5 p.m. ET 9/15/16.

Docket Numbers: ER16-2487-000.

Applicants: Idaho Power Company.

Description: § 205(d) Rate Filing: Resubmitted SA 358—Construction Agree w/PAC for Siphon-Pingree Line Rebuild to be effective 8/8/2016.

Filed Date: 8/25/16.

Accession Number: 20160825-5157.

Comments Due: 5 p.m. ET 9/15/16.

Docket Numbers: ER16-2488-000.

Applicants: Southwest Power Pool, Inc.

Description: § 205(d) Rate Filing: 1771R6 NPPD NITSA NOA Notice of Cancellation to be effective 6/1/2016.

Filed Date: 8/25/16.

Accession Number: 20160825-5162.

Comments Due: 5 p.m. ET 9/15/16.

Docket Numbers: ER16-2489-000.

Applicants: Brady Interconnection, LLC.

Description: Baseline eTariff Filing: Brady, Brady II, and Brady Interconnection, LLC Shared Facilities Agreement to be effective 10/1/2016.

Filed Date: 8/25/16.

Accession Number: 20160825-5164.

Comments Due: 5 p.m. ET 9/15/16.

Docket Numbers: ER16-2490-000.

Applicants: PacifiCorp.

Description: § 205(d) Rate Filing: SVEC ? Ancillary Services Agreement to be effective 9/1/2016.

Filed Date: 8/25/16.

Accession Number: 20160825-5168.

Comments Due: 5 p.m. ET 9/15/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 25, 2016.
Kimberly D. Bose,
Secretary.

[FR Doc. 2016-20972 Filed 8-30-16; 8:45 am]

BILLING CODE 6717-01-P